DEPARTMENT OF COMMERCE

Foreign-Trade Zones Board

[S-132-2012]

Foreign-Trade Zone 7—Mayaguez, PR; Application for Subzone; Pepsi Cola Puerto Rico Distributing, LLC, Toa Baja, PR

An application has been submitted to the Foreign-Trade Zones Board (the Board) by the Puerto Rico Industrial Development Company, grantee of FTZ 7, requesting special-purpose subzone status for the facility of Pepsi Cola Puerto Rico Distributing, LLC, located in Toa Baja, Puerto Rico. The application was submitted pursuant to the provisions of the Foreign-Trade Zones Act, as amended (19 U.S.C. 81a-81u), and the regulations of the Board (15 CFR part 400). It was formally docketed on December 7, 2012.

The proposed subzone (19.99 acres) is located at Carretera 865, Km. 0.4, Barrio Candelario Arenas, Toa Baja. A notification of proposed production activity has been docketed (B-84-2012). The proposed subzone would be subject to the existing activation limit of FTZ 7.

In accordance with the Board's regulations, Camille Evans of the FTZ Staff is designated examiner to review the application and make recommendations to the Executive Secretary.

Public comment is invited from interested parties. Submissions shall be addressed to the Board's Executive Secretary at the address below. The closing period for their receipt is January 22, 2013. Rebuttal comments in response to material submitted during the foregoing period may be submitted during the subsequent 15-day period to February 6, 2013.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz. For further information, contact Camille Evans at Camille.Evans@trade.gov or (202) 482-2350.

Dated: December 7, 2012.
Andrew McGilvray,
Executive Secretary.

[FR Doc. 2012-30116 Filed 12-12-12; 8:45 am]

BILLING CODE P